DEPARTMENT OF TRANSPORTATION

Corridors of the Future Program

AGENCY: Department of Transportation (DOT).

ACTION: Notice; announcement of the Corridors of the Future under the Corridors of the Future Program.

SUMMARY: The U.S. Department of Transportation (DOT) announces the selection of the Corridors of the Future (CFP) Phase 2 applications to be designated as the Corridors of the Future. The DOT has identified nationally significant corridors and the corresponding CFP applications that have the potential to alleviate congestion and provide national and regional long-term transportation benefits that will increase freight reliability and enhance the quality of life for U.S. citizens within the corridors and across the Nation.

FOR FURTHER INFORMATION CONTACT: Ms. Alla C. Shaw, Attorney-Advisor, (202) 366-1042 (alla.shaw@dot.gov), Federal Highway Administration, Office of the Chief Counsel, 1200 New Jersey Avenue, E84-463, Washington, DC 20590. Office hours are from 7:45 a.m. to 4:15 p.m., e.t., Monday through Friday, except Federal holidays.

SUPPLEMENTARY INFORMATION: Electronic Access: An electronic copy of this document may also be downloaded from the Office of the Federal Register's home page at: http://www.archives.gov and the Government Printing Office's Web page at: http://www.access.gpo.gov/nara.

Background: On September 5, 2006, the DOT published a notice in the Federal Register seeking applications from States, or private sector entities, interested in working together to build and manage corridors in a way that alleviates congestion on our highways, rail, or waterways (71 FR 52364). The notice outlined a two-phase submission and selection process and explained that the DOT would select up to 5 corridors in need of investment. However, the compelling nature of the Phase 2 applications justified DOT's selection of the 6 corridors outlined below. For Phase 1, interested parties were asked to submit proposals containing general information about the proposed corridor projects. The DOT received 38 Phase 1 proposals. The DOT established a team comprised of representatives from DOT's surface transportation administrations with expertise in the areas of finance, environment and planning, infrastructure, and operations to review the proposals (CFP Team). The proposals were evaluated based on each applicant's responsiveness to the information requested for Phase 1. In a Federal Register Notice published on February 7, the DOT invited 14 Phase 1 applicants, with proposals for projects located on 8 major transportation corridors, to participate in Phase 2. (72 FR 5787)

At the end of Phase 2, the DOT received 11 applications for projects located on the 8 corridors identified during Phase 1. The CFP Team evaluated the applications based on each applicant's responsiveness to the information requested for Phase 2 in the September 5, 2006 Federal Register notice. For Phase 2, applicants were asked to submit detailed information about the proposed corridor including how the proposed corridor would reduce current national and regional areas of congestion or address future congestion, increase mobility of people and freight, support national and international commerce by reducing congestion and providing reliable travel times, and information about innovative project delivery and financing features proposed for the project. Based on the recommendations of the CFP Team, the DOT identified the following corridors and corresponding Phase 2 applications, to designate as the Corridors of the Future.

1. Interstate 95

A. Interstate 95 (I-95)—Florida to the District of Columbia—Submitted by the North Carolina DOT in partnership with the Florida, Georgia, South Carolina, and Virginia DOTs.

B. I-95—Florida to the Canadian Border—Submitted by the I-95 Corridor Coalition.

2. Interstate 70 Dedicated Truck Lanes—Submitted by the Indiana DOT in partnership with the Illinois, Missouri, and Ohio DOTs.

3. Interstate 15—A Corridor without Borders—Submitted by the Nevada DOT on behalf of the Western States Coalition (Arizona, California, Nevada, and Utah DOTs).

4. Interstate 5—A Roadmap for Mobility—Submitted by the Washington DOT in partnership with the California and Oregon DOTs.

5. Interstate 10—Submitted by the I-10 National Freight Corridor Coalition.

6. Interstate 69 Corridor—Submitted by Arkansas State Highway and Transportation Department on behalf of the I-69 Steering Committee.

The DOT encourages State departments of transportation and other project sponsors to continue to advance those ideas contained in the applications that were not selected.

Authority: 49 U.S.C. 101.

Issued on: September 5, 2007.
Thomas J. Barrett,
Deputy Secretary.

[FR Doc. 07-4550 Filed 9-11-07; 11:07 am]

BILLING CODE 4910-22-P